FEDERAL COMMUNICATIONS COMMISSION

Federal Advisory Committee Act; Communications Security, Reliability, and Interoperability Council

AGENCY: Federal Communications Commission.

ACTION: Notice.

SUMMARY: In accordance with the Federal Advisory Committee Act, this notice advises interested persons that the Federal Communications Commission's (FCC or Commission) Communications Security, Reliability, and Interoperability Council (CSRIC) IV will hold its fifth meeting. At the meeting, each of the Working Groups will present an update on topics including emergency warning systems, 9-1-1 location accuracy, distributed denial-of-service (DDoS), and cybersecurity best practices.

DATES: September 24, 2014.

ADDRESSES: Federal Communications Commission, Room TW-C305 (Commission Meeting Room), 445 12th Street SW., Washington, DC 20554.

FOR FURTHER INFORMATION CONTACT: Jeffery Goldthorp, Designated Federal Officer, (202) 418-1096 (voice) or jeffery.goldthorp@fcc.gov (email); or Lauren Kravetz, Deputy Designated Federal Officer, (202) 418-7944 (voice) or lauren.kravetz@fcc.gov (email).

SUPPLEMENTARY INFORMATION: While the notice of this meeting has not yet been published in the Federal Register, and therefore, did not meet the 15-day requirement for advance publication, exceptional circumstances warrant proceeding with the September 24, 2014, CSRIC meeting. CSRIC members were informed of the September 24th meeting at the June 18, 2014, public meeting of the Council, and have been informed informally of the September meeting date on more than one occasion both before and since then. In addition, the meeting date has been posted on the CSRIC IV Web site for several months. A significant number of Council members have made business and travel plans in accordance with this schedule, and there is no date within one month of the planned date that will accommodate Council members' schedules. Delaying the meeting will also cause undue financial burdens on many of the members who have made travel arrangements.

In addition, it is not possible at this time to schedule a half-day meeting in the FCC's Commission Meeting Room for any date within one month of September 24, 2014. Further, the agency is planning to issue a Public Notice of this meeting no later than on September 15, 2014, to mitigate the late Federal Register publication and as an additional way of advising the public of this meeting and their right to attend. As the September 24 meeting date was announced at the June 2014 public meeting of the Council and has been stated on the Council's Web site for several months, the meeting has now been broadly announced to the public more than once.

Federal Communications Commission.
Lauren Kravetz,
Deputy Division Chief, Public Safety and Homeland Security Bureau.

[FR Doc. 2014-22041 Filed 9-12-14; 8:45 am]

BILLING CODE 6712-01-P